DEPARTMENT OF HEALTH AND HUMAN SERVICES

Centers for Medicare & Medicaid Services

[Document Identifier CMS-319, CMS-301, CMS-1957 and CMS-317]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of the currently approved collection; Title of Information Collection: State Medicaid Eligibility Quality Control (MEQC) Sample Selection Lists and Supporting Regulations in 42 CFR 431.800-431.865; Use: State Medicaid Eligibility Quality Control (MEQC) is operated by the State Title XIX agency to monitor and improve the administration of its Medicaid system. The MEQC system is based on State reviews of Medicaid beneficiaries identified through statistically reliable statewide samples of cases selected from the eligibility files. These reviews are conducted to determine whether or not the sampled cases meet applicable State Title XIX eligibility requirements by States performing the traditional sample process. The reviews are also used to assess beneficiary liability, if any, and to determine the amounts paid to provide Medicaid services for these cases. At the beginning of each month, State agencies still performing the traditional sample are required to submit sample selection lists which identify all of the cases selected for review in the States' samples. The sample selection lists contain identifying information on Medicaid beneficiaries such as: State agency review number; beneficiary's name and address; the name of the county where beneficiary resides; Medicaid case number, etc. The submittal of the sample selection lists is necessary for regional office (RO) validation of State reviews. Without these lists, the integrity of the sampling results would be suspect and the ROs would have no data on the adequacy of the States' monthly sample draw or review completion status.; Form Number: CMS-319 (OMB#: 0938-0147); Frequency: Reporting—Monthly; Affected Public: State, Local or Tribal governments; Number of Respondents: 10; Total Annual Responses: 120; Total Annual Hours: 960. (For policy questions regarding this collection contact Jessica Woodard 410-786-9249. For all other issues call 410-786-1326.)

2. Type of Information Collection Request: Revision of a currently approved collection; Title of Information Collection: Certification of Medicaid Eligibility Quality Control Payment Error Rates and Supporting Regulations Contained in 42 CFR 431.816; Use: Under the MEQC program, States can operate the traditional MEQC sample-and-review program or States can elect to study targeted areas of eligibility or program administration that are error-prone or that will help to prevent or reduce erroneous or misspent funds. These alternative MEQC programs are called MEQC pilots. Some States operate alternative MEQC programs as part of their research and demonstration waivers under Section 1115 of the Social Security Act. The majority of States operate some form of alternative MEQC program. However, since the number of States that conduct traditional MEQC programs and alternative MEQC programs can fluctuate at any time, we have assessed the burden and costs associated with submitting the Payment Error Rate form as if all States were reporting this information.

State agencies are required to submit the Payment Error Rate form to their respective CMS Regional Offices. Regional Office staff will review these forms for completeness and will forward these forms to the Central Office for compilation of error rate charts for projected quarterly withholdings and/or fiscal disallowances. The collection of information is also necessary to implement provisions from the Children's Health Insurance Program Reauthorization Act of 2009 (CHIPRA) (Pub. L. 111-3) with regard to the Medicaid Eligibility Quality Control (MEQC) and Payment Error Rate Measurement (PERM) programs. Form Number: CMS-301 (OMB#: 0938-0246); Frequency: Reporting and Recordkeeping—Yearly; Affected Public: State, Local, or Tribal Governments; Number of Respondents: 51; Total Annual Responses: 102; Total Annual Hours: 16,446. (For policy questions regarding this collection contact Jessica Woodard 410-786-9249. For all other issues call 410-786-1326.)

3. Type of Information Collection Request: Reinstatement without change of a previously approved collection; Title of Information Collection: SSO Report of State Buy-in Problem and Supporting Regulations in 42 CFR 407.40; Use: Under the State Buy-In program, States enroll certain groups of needy people under the Part B Supplementary Medical Insurance (SMI) Program and pay their premiums. The purpose of the “buy-in” is to allow the States to provide SMI protection to certain groups of needy individuals as part of its total assistance plan. Generally, States “buy-in” for individuals who are categorically needy under Medicaid and meet the eligibility requirements for Medicare Part B. States can also include in their buy-in agreement those eligible for medical assistance only. The CMS-1957 is used in the resolution of beneficiary complaints regarding State buy-in. This form facilitates the coordination of efforts between the SSO, State Medicaid Agencies, and CMS in the resolution of a beneficiary's State buy-in problem.; Form Number: CMS-1957 (OMB#: 0938-0035); Frequency: Reporting—On occasion; Affected Public: Federal government, Individuals or Households, and State, Local, and Tribal governments; Number of Respondents: 5,600; Total Annual Responses: 5,600; Total Annual Hours: 1,816. (For policy questions regarding this collection contact Lucia Diaz-Robinson 410-786-0598. For all other issues call 410-786-1326.)

4. Type of Information Collection Request: Extension of a currently approved collection; Title of Information Collection: State Medicaid Eligibility Quality Control Sampling Plan and Supporting Regulations in 42 CFR 431.800-431.865; Use: The Medicaid Eligibility Quality Control (MEQC) System is operated by the State Title XIX agency to monitor and improve the administration of its Medicaid system. The MEQC system is based on monthly State reviews of Medicaid cases by States performing the traditional sampling process identified through statistically reliable statewide samples of cases selected from the eligibility files. These reviews are conducted to determine whether or not the sampled cases meet applicable State Title XIX eligibility requirements. The reviews are also used to assess beneficiary liability, if any, and to determine the amounts paid to provide Medicaid services for these cases.; Form Number: CMS-317 (OMB#: 0938-0146); Frequency: Recordkeeping and Reporting—Semi-annually; Affected Public: State, Local or Tribal governments; Number of Respondents: 10; Total Annual Responses: 20; Total Annual Hours: 480. (For policy questions regarding this collection contact Jessica Woodard 410-786-9249. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on November 30, 2009. OMB, Office of Information and Regulatory Affairs, Attention: CMS Desk Officer, Fax Number: (202) 395-6974, E-mail: OIRA_submission@omb.eop.gov.

Dated: October 23, 2009.
Michelle Shortt,
Director, Regulations Development Group, Office of Strategic Operations and Regulatory Affairs.

[FR Doc. E9-26113 Filed 10-29-09; 8:45 am]

BILLING CODE 4120-01-P